FEDERAL RETIREMENT THRIFT INVESTMENT

Board Member Meeting

77 K Street NE, 10th Floor, Washington, DC 20002

March 23, 2020, 10 a.m., Telephonic

Open Session

1. Approval of the Minutes of the February 24, 2020 Board Meeting

2. Monthly Reports

(a) Participant Activity Report

(b) Legislative Report

(c) Investment Performance

3. Quarterly Report: Vendor Risk Management Update

4. OERM Annual Report

5. Enterprise Risk Management Update

6. 5 Year Lifecycle Funds Project Update

7. Lifecycle Funds Study

Contact Person for More Information: Kimberly Weaver, Director, Office of External Affairs, (202) 942-1640.

Dated: March 12, 2020.
Megan Grumbine,
General Counsel, Federal Retirement Thrift Investment Board.

[FR Doc. 2020-05616 Filed 3-17-20; 8:45 am]

BILLING CODE 6760-01-P